DEPARTMENT OF HEALTH AND HUMAN SERVICES

Centers for Medicare and Medicaid Services

[Document Identifiers: CMS-R-72, CMS-10042, CMS-10081]

Agency Information Collection Activities: Proposed Collection; Comment Request

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Extension of a currently approved collection;

Title of Information Collection: Information Collection Requirements in 42 CFR 478.18, 478.34, 478.36, and 478.42, QIO Reconsiderations and Appeals; Form No.: CMS-R-72 (OMB# 0938-0443); Use: These regulations contain procedures for QIOs (formerly known as PROs) to use in reconsideration of initial determinations. The information requirements contained in these regulations are on QIOs to provide information to parties requesting a reconsideration. These parties will use the information as guidelines for appeal rights in instances where issues are still in dispute.; Frequency: On occasion; Affected Public: Individuals or Households and Business or other for-profit; Number of Respondents: 2,509; Total Annual Responses: 5,228; Total Annual Hours: 2,882.

(2) Type of Information Collection Request: New Collection; Title of Information Collection: Medicare Part A Provider and Durable Medical Equipment Supplier Satisfaction Survey; Form No.: CMS-10042 (OMB# 0938-NEW); Use: This is a request for clearance of a survey questionnaire to conduct a standardized random sample of Part A providers' and DME suppliers' satisfaction of their experience with their Medicare contractor's performance in its administration of the Medicare-fee-for-service program. The purpose of this study is to develop a baseline measure of providers' and suppliers' satisfaction with Medicare contractors by administering a survey to 15,000 providers and suppliers, 5,000 serviced by each of the following contractors: Connecticut General Life Insurance Company (CIGNA)-D, Palmetto Government Business Administrators (PBGA)-D, and United Government Services, LLC (UGS)-Part A. The data collected will be interpreted to produce indicators of the contractor's quality of performance.; Frequency: Annually; Affected Public: Business or other for-profit, and Not-for-profit institutions; Number of Respondents: 4,500; Total Annual Responses: 4,500; Total Annual Hours: 1,125.

(3) Type of Information Request: New Collection; Title of Information Collection: Data Collection for Administering the Survey for the Evaluation of the Demonstration to Maintain Independence and Employment (DMIE); Form No.: CMS-10081 (OMB# 0938-NEW); Use: The DMIE Programs, funded by CMS under Title II of the Federal Ticket to Work Legislation, provide Medicaid coverage to low-income working populations. The Survey Evaluation is designed to assess the impact of the Mississippi DMIE program on access to care, health status and quality of life, workforce participation, etc.; Frequency: Annually; Affected Public: Individuals or Households, and State, Local, or Tribal Gov.; Number of Respondents: 928; Total Annual Responses: 928; Total Annual Hours: 253.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: January 9, 2003.
John P. Burke, III,
CMS Reports Clearance Officer, Office of Strategic Operations and Strategic Affairs, Division of Regulations Development and Issuances.

[FR Doc. 03-1054 Filed 1-16-03; 8:45 am]

BILLING CODE 4120-03-P